SUSQUEHANNA RIVER BASIN COMMISSION

Low Flow Protection Policy

AGENCY: Susquehanna River Basin Commission.

ACTION: Notice.

SUMMARY: As part of its regular business meeting held on March 15, 2012, in Harrisburg, Pennsylvania, the Susquehanna River Basin Commission (Commission) approved the release of a proposed Low Flow Protection Policy (Policy) for public review and comment. The Policy can be accessed on the Commission's Web site at http://www.srbc.net/pubinfo/businessmeeting.htm, or by contacting the Commission to receive a copy by first-class mail. Persons interested in providing comments are directed to submit the same in writing on or before May 16, 2012.

DATES: The deadline for the submission of written comments is May 16, 2012.

ADDRESSES: Comments may be mailed to: Mr. John Balay, Susquehanna River Basin Commission, 1721 N. Front Street, Harrisburg, PA 17102-2391, or electronically submitted through http://www.srbc.net/pubinfo/businessmeeting.htm.

FOR FURTHER INFORMATION CONTACT: John Balay, Manager of Planning and Operations, telephone: (717) 238-0423; fax: (717) 238-2436.

SUPPLEMENTARY INFORMATION: On March 15, 2012, the Commission approved the release of a proposed Low Flow Protection Policy for public review and comment. The Policy was developed over the past year in coordination with the Commission's Water Resources Management Advisory Committee to improve low flow protection standards associated with approved water withdrawals. The improvements are largely based on scientific advances in ecosystem flow protection. The Commission will use the Policy and supporting technical guidance when reviewing withdrawal applications to establish limits and conditions on approvals consistent with the Commission's regulatory standards (18 CFR 806.23).

Authority: Public Law 91-575, 84 Stat. 1509 et seq., 18 CFR parts 806, 807, and 808.

Dated: March 15, 2012.
Stephanie L. Richardson
Secretary to the Commission.

[FR Doc. 2012-7101 Filed 3-23-12; 8:45 am]

BILLING CODE 7040-01-P